FEDERAL RETIREMENT THRIFT INVESTMENT BOARD

Sunshine Act Meeting

TIME AND DATE: 9:00 a.m. (EDT) May 8, 2000.

Place: 4th Floor, Conference Room, 1250 H Street, NW., Washington, DC.

STATUS: Open.

MATTERS TO BE CONSIDERED:

1. National Finance Center record keeping and New TSP System.

2. Congressional/Agency/Participant Liaison.

3. Benefits and Investments.

4. Participant Communications.

5. Approval of the minutes of the April 10, 2000, Board member meeting.

6. Thrift Savings Plan Activity Report by the Executive Director.

7. Approval of the Update of the FY 2000 Budget and FY 2001 Estimates.

8. Investment Policy Review.

9. Status of Audit Recommendations.

CONTACT PERSON FOR MORE INFORMATION: Thomas J. Trabucco, Director, Office of External Affairs, (202) 942-1640.

Dated: April 25, 2000.
Salomon Gomez,
Associate General Counsel, Federal Retirement Thrift Investment Board.

[FR Doc. 00-10699 Filed 4-25-00; 3:41 pm]

BILLING CODE 6760-01-M